DEPARTMENT OF HOMELAND SECURITY

Coast Guard

33 CFR Part 117

[Docket No. USCG-2013-0042]

Drawbridge Operation Regulation; Cape Fear River, Wilmington, NC

AGENCY: Coast Guard, DHS.

ACTION: Notice of deviation from drawbridge regulation.

SUMMARY: The U.S. Coast Guard has issued a temporary deviation from the operating schedule that governs the operation of the Cape Fear River Memorial Bridge, across the Cape Fear River, mile 26.8, at Wilmington, NC. The deviation is necessary to restrict the operation of the draw span to facilitate the bi-annual trunnion inspection.

DATES: This temporary deviation is effective from 7 a.m. on March 11, 2013, until 7 p.m. on March 14, 2013.

ADDRESSES: The docket for this notice, USCG-2013-0042, is available on line at http://www.regulations.gov by typing the docket number in the “SEARCH” box and clicking “SEARCH.” Next, click on Open Docket Folder on the line associated with this notice. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mrs. Kashanda Booker, Bridge Management Specialist, Fifth Coast Guard District, telephone (757) 398-6227, email Kashanda.l.booker@uscg.mil. If you have questions on viewing the docket, call Docket Operations, telephone 202-366-9826.

SUPPLEMENTARY INFORMATION: The North Carolina Department of Transportation, who owns and operates this vertical lift bridge, has requested a temporary deviation to conduct the bi-annual trunnion inspection.

Under the regular operating schedule, the bridge opens on signal as required by 33 CFR 117.5, except that under 33 CFR 117.823, the draw need not open for the passage of vessels from 8 a.m. to 10 a.m. on the second Saturday of July and from 7 a.m. to 11 a.m. on the first or second Sunday of November every year.

The Cape Fear River Memorial Bridge, at mile 26.8, at Wilmington, NC, has vertical clearances in the open and closed positions of 135 feet and 65 feet above mean high water, respectively.

Under this temporary deviation, the drawbridge will be closed to navigation beginning each day from 7 a.m. to 7 p.m., on March 11, 2013, through March 14, 2013; however, vessel openings will be provided if at least two hours advance notice is given. At all other times, the drawbridge opens on signal. There are no alternate routes for vessels transiting this section of the Cape Fear River. The drawbridge will be able to open in the event of an emergency.

Typical vessel traffic on the Cape Fear River includes a variety of vessels from freighters, tug and barge traffic, and recreational vessels. Vessels that can pass under the bridge without a bridge opening may continue to do so at anytime.

The Coast Guard has carefully coordinated the restrictions with commercial and recreational waterway users. The Coast Guard will inform all users of the waterway through our Local and Broadcast Notice to Mariners of the closure periods for the bridge so that vessels can arrange their transits to minimize any impacts caused by the temporary deviation.

In accordance with 33 CFR 117.35(e), the drawbridge must return to its regular operating schedule immediately at the end of the effective period of this temporary deviation. This deviation from the operating regulations is authorized under 33 CFR 117.35.

Dated: January 30, 2013.
Waverly W. Gregory, Jr.,
Bridge Program Manager, Fifth Coast Guard District.

[FR Doc. 2013-02962 Filed 2-8-13; 8:45 am]

BILLING CODE 9110-04-P